FEDERAL TRADE COMMISSION

Agency Information Collection Activities; Submission for OMB Review; Comment Request; Correction

AGENCY: Federal Trade Commission (“Commission” or “FTC”).

ACTION: Notice and request for comment; correction.

SUMMARY: The FTC published a notice and request for comment on December 6, 2011, regarding its intention to seek renewed Office of Management and Budget (“OMB”) clearance under the Paperwork Reduction Act for the information collection requirements in the Commission's Business Opportunity Rule. This document makes a technical correction to a hyperlink in that document and adds instructions for sending public comments to OMB.

FOR FURTHER INFORMATION CONTACT: Requests for additional information should be addressed to Christine M. Todaro (202) 326-3711, Division of Marketing Practices, Room 286, Bureau of Consumer Protection, Federal Trade Commission, 600 Pennsylvania Avenue NW., Washington, DC 20580.

SUPPLEMENTARY INFORMATION: This Notice contains a technical correction to the Commentworks hyperlink for public comments contained in the Notice published on December 6, 2011 (76 FR 76162). The hyperlink located on page 76162, second column, and on page 76163, third column, is corrected to read: https://ftcpublic.commentworks.com/ftc/BusinessOpportunityRulePRA2. Additionally, the December 6, 2011 Notice inadvertently omitted the following instruction from the Request for Comments portion of the Supplementary Information section:

Comments on the information collection requirements subject to review under the PRA should additionally be submitted to OMB. If sent by U.S. mail, they should be addressed to Office of Information and Regulatory Affairs, Office of Management and Budget, Attention: Desk Officer for the Federal Trade Commission, New Executive Office Building, Docket Library, Room 10102, 725 17th Street NW., Washington, DC 20503. Comments sent to OMB by U.S. postal mail, however, are subject to delays due to heightened security precautions. Thus, comments instead should be sent by facsimile to (202) 395-5167.

Donald S. Clark,
Secretary.

[FR Doc. 2011-31749 Filed 12-9-11; 8:45 am]

BILLING CODE 6750-01-P